DEPARTMENT OF DEFENSE

Department of the Navy

[Docket ID: USN-2015-0002]

Privacy Act of 1974; System of Records

AGENCY: United States Marine Corps, DoD.

ACTION: Notice to alter a System of Records.

SUMMARY: The U.S. Marine Corps proposes to alter the system of records, MMC00010, entitled “Marine Corps Marathon Automated Support System” in its inventory of record systems subject to the Privacy Act of 1974, as amended.

This system will be used to collect information to register, acknowledge and promote participation in Marine Corps race events. The primary user of the collected information is the Marine Corps Marathon Office. Information is used to plan, organize, coordinate and execute the events and communicate with the runners and volunteers before, during and after the event to include publication of finisher results, finisher certificates and race photographs, videos and motion pictures. Data and photographs, videotape, motion pictures and other recordings may be used by the Marine Corps Marathon Office and its select sponsors for surveys, publications on Web sites, race programs and promotions, newspaper articles, newsletters and other race marketing purposes and runner enhancements.

DATES: Comments will be accepted on or before March 16, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Sally A. Hughes, Head, FOIA/PA Programs (ARSF), Headquarters, U.S. Marine Corps, 3000 Marine Corps Pentagon, Washington, DC 20350-3000, telephone (703) 614-3685.

SUPPLEMENTARY INFORMATION: The U.S. Marine Corps' notices for systems of records subject to the Privacy Act of 1974 (5 U.S.C. 552a), as amended, have been published in the Federal Register and are available from the address in FOR FURTHER INFORMATION CONTACT or from the Defense Privacy and Civil Liberties Office Web site at http://dpcld.defense.gov/.

The proposed system report, as required by 5 U.S.C. 552a(r) of the Privacy Act of 1974, as amended, was submitted on November 24, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 10, 2015.
Aaron Siegel,
Alternate OSD Federal Register Liaison Officer, Department of Defense.

MMC00010

System name:

Marine Corps Marathon Automated Support System (August 3, 1993, 58 FR 41254).

Changes:

* * * * *

System location:

Delete entry and replace with “Marine Corps Marathon Office, Building 3399 Russell Road, Quantico, VA 22134-5000.”

Categories of individuals covered by the system:

Delete entry and replace with “Participants, parents/guardians and volunteers for the Marine Corps Marathon, Marine Corps Marathon Transfer/Deferment, Marine Corps Marathon 10K, Marine Corps Marathon Kids Run, Marine Corps Historic Half, Historic 10K, Semper Fred 5K, Marine Corps 1775K, Run Amuck, Mini Run Amuck, Quantico Triathlon, Turkey Trot 10K, and Turkey Trot Kids Mile.”

Categories of records in the system:

Delete entry and replace with “Full name, home address, country, email address, phone numbers, birthdate and gender, emergency contact information for day of the race, military service and status, race name and volunteer job selection, physical or special accommodations selection, first time participants, expected finish time, race results, name, completion time, image, apparel selection and size, credit card type, card holder name, number, verification code and expiration.”

Authority for maintenance of the system:

Delete entry and replace with “10 U.S.C. 5041, Headquarters, Marine Corps: Function, Composition; Marine Corps Order P1700.27B, Marine Corps Community Services Policy Manual (MCCS); Marine Corps Marathon Charter, 27 March 2007.”

Purpose(s):

Delete entry and replace with “Information is collected to register, acknowledge and promote participation in Marine Corps race events. The primary user of the collected information is the Marine Corps Marathon Office. Information is used to plan, organize, coordinate and execute the events and communicate with the runners and volunteers before, during and after the event to include publication of finisher results, finisher certificates and race photographs, videos and motion pictures. Data and photographs, videotape, motion pictures and other recordings may be used by the Marine Corps Marathon Office and its select sponsors for surveys, publications on Web sites, race programs and promotions, newspaper articles, newsletters and other race marketing purposes and runner enhancements.”

Routine uses of records maintained in the system, including categories of users and the purposes of such uses:

Delete entry and replace with “In addition to those disclosures generally permitted under 5 U.S.C. 552a(b) of the Privacy Act of 1974, as amended, the records contained in the system may specifically be disclosed outside the DoD as a routine use pursuant to 5 U.S.C. 552a(b)(3) as follows:

Television, online and print media to provide publicity on the Marine Corps Marathon organization events.

Participant information to select sponsors approved by the Marine Corps Marathon Office.

The Blanket Routine Uses set forth at the beginning of the Marine Corps system of records notices may apply to this system.”

Policies and practices for storing, retrieving, accessing, retaining and disposing of records in the system:

Storage:

Delete entry and replace with “Electronic storage media and paper files.”

Retrievability:

Delete entry and replace with “Records may be retrieved by name, home address, email address or telephone number.”

Safeguards:

Delete entry and replace with “Records are stored under lock and key in secure containers or on electronic media that contain intrusion safeguards. Access to records is role-based and limited to individuals requiring access in the performance of their official duties. All individuals who are granted access must have a need-to-know and have been advised as to the sensitivity of the records and their responsibilities to safeguard information from unauthorized disclosure. Electronic audit logs will be maintained to document access to data. All individuals granted access to this system of records will complete Information Assurance and Privacy Act training.

Records are maintained in a database housed on a server secured by firewalls and locked in a secure area or on encrypted CDs locked in containers in a controlled area accessible only to authorized personnel. Entry to areas is restricted by the use of locks, administrative procedures and entry code access.”

Retention and disposal:

Delete entry and replace with “Disposition pending. Until the National Archives and Records Administration (NARA) disposition schedule is approved, treat as permanent.”

System manager(s) and address:

Delete entry and replace with “Director, Marine Corps Marathon, 3399 Russell Road, Quantico, VA 22134-5000.”

Notification procedure:

Delete entry and replace with “Individuals seeking to determine whether this system contains information about themselves should address written inquiries to Director, Marine Corps Marathon, P.O. Box 188, Quantico, VA 22134-5000.

Written requests must contain full name, address, city, state, country and telephone number. You must sign your request. An email address is optional.

For personal visits, the individual should be able to provide an identification bearing picture and signature or sufficient verbal data to ensure that the individual is the subject of the inquiry. A visitor may review his/her records by appointment, Monday through Friday, 8 a.m. to 4:30 p.m., Marine Corps Marathon, Building 3399 Russell Road, Quantico, VA 22134-5000. Please call (703)784-2225 for an appointment.”

Record access procedures:

Delete entry and replace with “Individuals seeking to request access to information about themselves should address written inquiries to Director, Marine Corps Marathon, P.O. Box 188, Quantico, VA 22134-5000.

Written requests must contain full name, address, city, state, country and telephone number. You must sign your request. An email address is optional.

For personal visits, the individual should be able to provide an identification bearing picture and signature or sufficient verbal data to ensure that the individual is the subject of the inquiry. A visitor may review his/her records by appointment, Monday through Friday, 8 a.m. to 4:30 p.m., Marine Corps Marathon, Building 3399 Russell Road, Quantico, VA 22134. Please call (703) 784-2225 for an appointment.”

Contesting record procedures:

Delete entry and replace with “The USMC rules for accessing records and contesting and appealing initial agency determinations are published in Secretary of the Navy Instruction 5211.5 and 32 CFR part 701, subpart E or may be obtained from the system manager.”

Record source categories:

Delete entry and replace with “Information in the system is obtained from the individual (i.e., participant, parent/guardian or volunteer) through registration online, using Marine Corps Marathon Database (MCM).”

* * * * *

[FR Doc. 2015-03012 Filed 2-12-15; 8:45 am]

BILLING CODE 5001-06-P